DEPARTMENT OF THE INTERIOR

Bureau of Land Management

[CA-670-07-1610-DQ]

Notice of Availability of U.S. Gypsum Company Expansion/Modernization Project Final Environmental Impact Report/Environmental Impact Statement, California

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) and Imperial County have prepared a joint Final Environmental Impact Report (EIR)/Environmental Impact Statement (EIS) for the U.S. Gypsum Company Expansion/Modernization Project in Imperial County, California.

DATES: The Draft EIR/EIS was released for a 90-day comment period on April 26, 2006. Comments received during that time were incorporated into this Final EIR/EIS. No decision will be made on BLM portions of this project for at least 30 days following the publication of this notice.

ADDRESSES: A copy of the Final EIR/EIS has been sent to affected Federal, State and local government agencies and interested parties. The document will be available electronically at http://www.ca.blm.gov/elcentro. Copies of the Final EIR/EIS will be available at the following locations:

• Bureau of Land Management, California State Office, 2800 Cottage Way, Sacramento, CA 95825.

• Bureau of Land Management, El Centro Field Office, 1661 S. 4th Street, El Centro, CA 92243.

FOR FURTHER INFORMATION CONTACT: Erin Dreyfuss, Environmental Protection Specialist, at (760) 337-4400, Bureau of Land Management, 1661 S. 4th Street, El Centro, CA 92243.

SUPPLEMENTARY INFORMATION: Imperial County, the lead State agency under the California Environmental Quality Act (CEQA) and BLM, the lead Federal agency under the NEPA, jointly published the Final EIR/EIS.

The U.S. Gypsum facilities consist of the Plaster City plant, which produces wallboard and related gypsum products, located 18 miles west of El Centro; an eight mile water supply line extending from a well field near the community of Ocotillo; and the Plaster City quarry, located about 26 miles north of the Plaster City plant. The project entails expanded and upgraded facilities at the plant to increase wallboard production capacity with related increases in water supply. BLM's involvement consists of responding to an application for a right-of-way grant for replacement of the existing water supply line.

Dated: January 7, 2008.
Thomas Pogacnik,
Assistant Deputy State Director for Natural Resources.

[FR Doc. E8-5035 Filed 3-13-08; 8:45 am]

BILLING CODE 4310-40-P